DEPARTMENT OF ENERGY

Federal Energy Regulatory Commission

[Docket No. EL06-101-000]

Xcel Energy Services Inc. Complainants, v. Midwest Independent Transmission System Operator, Inc. Respondent; Notice of Complaint

August 22, 2006.

Take notice that on August 18, 2006, pursuant to sections 206 and 306 of the Federal Power Act, 16 U.C.S. 824E and 825E, and Rule 206 of the Rules of Practice and Procedure of the Federal Energy Regulatory Commission (Commission), 18 CFR 385.206, Xcel Energy Services Inc. on behalf of Northern States Power Company (Minnesota) and Northern States Power Company (Wisconsin) wholly owned subsidiaries of Xcel Energy Inc., (Complainants) filed a formal complaint against Midwest Independent Transmission System Operator, Inc. (Respondent) seeking an order from the Commission requiring the Respondent to refund to the Complainants for: (1) $124,750 (plus interest) in Real-Time replacement energy charges; and (2) $368,035 (plus interest) in Revenue Sufficiency Guarantee “uplift” charges assessed to the Complainants under the Midwest ISO Open Access Transmission and Energy Markets Tariff (TEMT) as a result of outages that occurred from April 14, 2005 to April 17, 2005, and from April 18, 2005 to May 1 2005, at the Complainant's Sherco Unit 3 generation facility in Becker, Minnesota, jointly owned with the Southern Minnesota Municipal Power Agency (SMMPA). The Complainants allege that the penalties result from the Respondent's violation of the TEMT and governing business practices.

The Complainants state that a copy of the Complaint has been served on the Respondent and SMMPA.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 7, 2006.

Magalie R. Salas,
Secretary.

[FR Doc. E6-14381 Filed 8-29-06; 8:45 am]

BILLING CODE 6717-01-P